DEPARTMENT OF COMMERCE

Bureau of Industry and Security

[Docket No. 020621156-2156-01]

National Defense Stockpile Market Impact Committee Request for Public Comments on the Potential Market Impact of Proposed Stockpile Disposals of Celestite and Quinidine.

AGENCY: Department of Commerce.

ACTION: Notice of inquiry.

SUMMARY: This notice is to advise the public that the National Defense Stockpile Market Impact Committee (co-chaired by the Departments of Commerce and State) is seeking public comments on the potential market impact of a proposed increase in the disposal levels of Celestite and Quinidine from the National Defense Stockpile under the proposed Fiscal Year 2003 Annual Materials Plan.

DATES: Comments must be received by August 1, 2002.

ADDRESSES: Written comments should be sent to Richard V. Meyers, Co-Chair, Stockpile Market Impact Committee, Office of Strategic Industries and Economic Security, Room 3876, Bureau of Industry and Security, U.S. Department of Commerce, 14th Street and Constitution Avenue, NW, Washington, DC 20230; FAX (202) 482-5650; E-Mail: rmeyers@bis.doc.gov.

FOR FURTHER INFORMATION CONTACT: Richard V. Meyers, Office of Strategic Industries and Economic Security, Bureau of Industry and Security, U.S. Department of Commerce, (202) 482-3634; or Terri L. Robl, Office of International Energy and Commodity Policy, U.S. Department of State, (202) 647-3423; co-chairs of the National Defense Stockpile Market Impact Committee.

SUPPLEMENTARY INFORMATION: Under the authority of the Strategic and Critical Materials Stock Piling Act of 1979, as amended, (50 U.S.C. 98 et seq.), the Department of Defense (“DOD”), as National Defense Stockpile Manager, maintains a stockpile of strategic and critical materials to supply the military, industrial, and essential civilian needs of the United States for national defense. Section 3314 of the Fiscal Year (“FY”) 1993 National Defense Authorization Act (“NDAA”) (50 U.S.C. 98h-1) formally established a Market Impact Committee (“Committee”) to “advise the National Defense Stockpile Manager on the projected domestic and foreign economic effects of all acquisitions and disposals of materials from the stockpile * * *” The Committee must also balance market impact concerns with the statutory requirement to protect the Government against avoidable loss.

The Committee is comprised of representatives from the Departments of Commerce, State, Agriculture, Defense, Energy, Interior, Treasury, and the Federal Emergency Management Agency, and is co-chaired by the Departments of Commerce and State. The FY 1993 NDAA directs the Committee to “consult from time to time with representatives of producers, processors and consumers of the types of materials stored in the stockpile.”

The National Defense Stockpile Administrator has proposed revising the proposed FY 2003 Annual Materials Plan (“AMP”) to increase the disposal quantity levels of Celestite, from 3,600 ST to 12,794 ST, and Quinidine, from 750,000 Av. Oz. to 2,211,122 Av. Oz. These increased quantity levels are equivalent to the remaining stockpile inventory of these materials. Because these materials have limited commercial value, making the remaining stockpile inventory of these materials available for disposal during FY 2003 will enhance the ability of the National Defense Stockpile Manager to dispose of the entire stockpile inventory of these materials by the end of FY 2003, thereby avoiding significant and continuing storage costs. These levels are also being proposed to take advantage of a possible long term sales contract for Celestite and to dispose of Quinidine that has passed its maximum shelf life. The Committee is seeking public comments on the potential market impact of these proposed increases.

The quantities of Celestite and Quinidine listed in the proposed FY 2003 AMP are not targets for either sale or disposal. They are only a statement of the proposed maximum disposal quantity of the materials that may be sold in a particular fiscal year. The quantity of the materials that would actually be offered for sale or disposal will depend on the market for the material at the time of the offering as well as on the quantity of the materials approved for disposal by Congress.

The Committee requests that interested parties provide written comments, supporting data and documentation, and any other relevant information on the potential market impact of the proposed increased disposal levels of Celestite and Quinidine. Although comments in response to this Notice must be received by August 1, 2002 to ensure full consideration by the Committee, interested parties are encouraged to submit comments and supporting information at any time thereafter to keep the Committee informed as to the market impact of the sale of the materials. Public comments are an important element of the Committee's market impact review process.

Anyone submitting business confidential information should clearly identify the business confidential portion of the submission and also provide a non-confidential submission that can be placed in the public file. The Committee will seek to protect such information to the extent permitted by law.

The records related to this Notice will be made accessible in accordance with the regulations published in part 4 of Title 15 of the Code of Federal Regulations (15 CFR § 4.1 et seq.). Specifically, the Bureau of Industry and Security's FOIA reading room is located on its web page, which can be found at http://www.bis.doc.gov., and copies of the public comments received will be maintained at that location (see Freedom of Information Act (FOIA) heading). If requesters cannot access the web, they may call (202) 482-2165 for assistance.

Dated: June 25, 2002.
Matthew S. Borman,
Deputy Assistant Secretary, Bureau of Industry and Security.

[FR Doc. 02-16641 Filed 7-1-02; 8:45 am]

BILLING CODE 3510-DR-P